DEPARTMENT OF HEALTH AND HUMAN SERVICES

Administration for Children and Families

[CFDA Number 93.645]

Correction to the Notice of Allotment Percentages to States for Child Welfare Services State Grants

AGENCY: Administration on Children, Youth and Families, Administration for Children and Families, Department of Health and Human Services.

ACTION: Notice; correction.

SUMMARY: The Administration on Children, Youth and Families, Administration on Children and Families published a document in the Federal Register of November 28, 2014, concerning the biennial publication of allotment percentages for States under Title IV-B subpart 1, Child Welfare Services State Grants Program. The document contained an incorrect allotment percentage for the District of Columbia.

FOR FURTHER INFORMATION CONTACT: Deborah Bell, Grants Fiscal Management Specialist, Office of Grants Management, Office of Administration, Administration for Children and Families, telephone (202) 401-4611.

Correction: In the Federal Register of November 28, 2014, in FR. Doc. 2014-28135, on page 70873, in the second column, correct the “Allotment Percentage” for the District of Columbia from “14.17” to “30.00.”

Melody Wayland,
Senior Grants Policy Specialist, Office of Administration.

[FR Doc. 2015-01106 Filed 1-22-15; 8:45 am]

BILLING CODE 4184-01-P